DEPARTMENT OF DEFENSE

Office of the Secretary

[Docket ID: DOD-2011-OS-0127]

Submission for OMB Review; Comment Request

AGENCY: Under Secretary of Defense for Personnel and Readiness, DoD.

ACTION: 30-Day information collection notice.

SUMMARY: The Office of Military Community and Family Policy, Department of Defense has submitted to OMB for clearance the following proposal for collection of information under the provisions of the Paperwork Reduction Act.

DATES: Consideration will be given to all comments received by June 1, 2020.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Angela James, 571-372-7574, or whs.mc-alex.esd.mbx.dd-dod-information-collections@mail.mil.

SUPPLEMENTARY INFORMATION: Title; Associated Form; and OMB Number: Exceptional Family Member Program; DD 2792 “Family Member Medical Summary,” DD 2792-1 “Special Education/Early Intervention Summary,” OMB Control Number 0704-0411.

Type of Request: Renewal.

Number of Respondents:

DD 2792:

Family Members: 55,828.

Medical Providers: 11,166.

DD 2792-1:

Family Members: 16,906.

Special Education Teachers: 14,708.

Total Respondents: 98,608.

Responses per Respondent:

DD 2792:

Family Members: 1.

Medical Providers: 1.

DD 2792-1:

Family Members: 1.

Special Education Teachers: 1.

Annual Responses:

DD 2792:

Family Members: 55,828.

Medical Providers: 11,166.

DD 2792-1:

Family Members: 16,906.

Special Education Teachers: 14,708.

Total Annual Responses: 98,608.

Average Burden per Response:

DD 2792:

Family Member: 5 minutes.

Medical Provider: 25 minutes.

DD 2792-1:

Family Member: 5 minutes.

Special Education Teacher: 20 minutes.

Annual Burden Hours:

DD 2792: 9,156 hours.

DD 2792-1: 6,206 hours.

Total Respondent Burden Hours: 15,362.

Needs and Uses:

The Individuals with Disabilities Education Act, (Sections 1400 et seq. of title 20, United States Code) and the Defense Dependents Education Act, (Sections 921 et seq. of title 20, United States Code) require the Department of Defense to provide early intervention services to developmentally delayed infants and toddlers (birth through 2) and special education and medically related services to children with disabilities from 3 through 21 years of age who are eligible to attend a DoD school. In order to ensure the availability of necessary medical and educational services for family members, the Department must identify those who have special health or educational needs. Medical and educational needs are also considered when approving family travel to an overseas or remote location where DoD must provide the services.

The Health Insurance Portability and Accountability Act (HIPAA) of 1996 (Pub. L. 94-191) requires specific language to advise the individuals that personally identifiable health information shall not be used or disclosed except for specifically permitted purposes, unless informed consent is provided by the individual. The Department is standardizing the information collection to ensure that appropriate information is collected and that it meets the data collection HIPAA requirements.

The National Defense Authorization Act (NDAA) for Fiscal Year 2010 (Pub. L. 111-84) requires procedures to identify members of the Uniformed Services who are members of military families with special needs, mechanisms to ensure their timely and accurate evaluations and enrollment.

Affected Public: Individuals or households, businesses or on for-profit.

Frequency: On occasion.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DOD Clearance Officer: Ms. Angela James.

Requests for copies of the information collection proposal should be sent to Ms. James at whs.mc-alex.esd.mbx.dd-dod-information-collections@mail.mil.

Dated: April 28, 2020.
Morgan E. Park,
Alternate OSD Federal Register Liaison Officer, Department of Defense.

[FR Doc. 2020-09268 Filed 4-30-20; 8:45 am]

BILLING CODE 5001-06-P